DEPARTMENT OF TRANSPORTATION

Pipeline and Hazardous Materials Safety Administration

Hazardous Materials: Actions on Special Permit Applications

AGENCY: Office of Hazardous Materials Safety, Pipeline And Hazardous Materials Safety Administration (PHMSA), DOT.

ACTION: Notice of actions on special permit applications.

SUMMARY: In accordance with the procedures governing the application for, and the processing of special permits from the Department of Transportation's Hazardous Material Regulations (49 CFR part 107, subpart B), notice is hereby given of the actions on special permits applications in (October to October 2014). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on January 28, 2016.
Don Burger,
Chief, Special Permits and Approvals Branch.

S.P. No. | Applicant | Regulations(s) | Nature of special permit thereof
Modification Special Permit Granted
15689-M | AVL Test Systems, Inc., Plymouth, MI | 49 CFR 172.200, 177.834 | To modify the special permit to authorize additional packaging and mounting system for optional use.
6530-M | Linde Gas North America, LLC, New Providence, NJ | 49 CFR 173.302(c) | To modify the special permit to authorize Deuterium and Deuterium gas mixtures to be transported to certain cylinders filled to 110% of the cylinder marked service pressure.
14867-M | GTM Manufacturing, LLC, Amarillo, TX | 49 CFR 173.302a and 173.304 | To modify the special permit to authorize additional hazardous materials.
12187-M | ITW Sexton, Decatur, AL | 49 CFR 173.304(a); 175.3; 178.65 | To modify the special permit to add Compressed air, n.o.s. and eliminate the restriction on the maximum pressure of the lading of 264 psig at 70 °F and 357 psig at 130 °F.
16490-M | William T. Poe & Associates Inc. d/b/a Explosive Service International, Baton Rouge, LA | 49 CFR 176.63; 176.83; 176.116(e); 176.120; 176.137(a)(7); 176.138(b); 176.144(e); 176.145(b); 176.164(e); 176.178(b) | To modify the special permit originally issued on an emergency basis to authorize an additional two years.
16492-M | Construction Helicopters, Inc., Howell, MI | 49 CFR 172.101 Hazardous Materials Table Column (9B), Subpart C of Part 172, 172.301(c), 172.302(c), 173.27(b)(2), 175.30, Part 178 | To modify the special permit to remove the provision “training or qualification of a new crew member will not take place during the execution of this special permit.”
14625-M | KIK Piedmont, LLC, Gainesville, GA | 49 CFR 173.306(a)(3)(v) | To modify the special permit to allow an additional DOT specification 2Q aluminum non-refillable inside container.
New Special Permit Granted
16366-N | Department of Defense, Scott AFB, IL | 49 CFR 171.23(a) 173.302(a), Part 6, Chapter 5, Paragraph 5.1.1.2 of the ICAO T1, Chapter 6.2, paragraph 6.2.1.1.2 of the IMDG Code | To authorize the transportation in commerce of compressed nitrogen gas (Division 2.2) in non-DOT specification welded steel cylinders. (modes 1, 3, 4)
16523-N | FIBA Technologies, Inc., Littleton, MA | 49 CFR 173.301(f), 173.301(g), 173.312(a)(2) | To authorize the manufacture, mark, sale and use of certain DOT specification 3-Series cylinders/tubes, UN pressure receptacles, and Multi-Element Gas Containers (MEGCs) without pressure relief devices (modes 1, 2, 3)
16474-N | Retriev Technologies, Inc., Anaheim, CA | 49 CFR Subparts C, D, and E of Part 172, 172.102(c)(1) Special Provision 130(d), 173.185(c), 173.185(d) | To authorize the manufacture, mark, sale and use of specifically designed packagings for the transportation in commerce of certain batteries without shipping papers, and certain marking and labeling when transported for recycling or disposal. (modes 1, 2, 3)
16525-N | Air Products and Chemicals, Inc., Allentown, PA | 49 CFR 173.187, 173.212, 173.240, 173.242, IMDG Code 6.2.1.1.2 | To authorize the transportation in commerce of a gas purification apparatus containing certain Division 4.1 and 4.2 hazardous materials in non-DOT specification cylinders (pressure vessels). (modes 1, 3)
16535-N | National Aeronautics and Space Administration, Washington, DC | 49 CFR 173.301(h)(3), 173.301(f)(1), 173.302a(a) | To authorize the transportation in commerce of non-DOT specification carbon composite overwrapped cylinders containing compressed nitrogen. (modes 1, 2, 4, 5)
16540-N | Gas Liquefies Industrie, Paris, France | 49 CFR 172.102(b)(3) Special Provision B77, 172.102(c)(7), 172.102(c)(8) Special Provision TP38, 178.274(b), 178.277(b)(1) | The manufacture, mark, sale and use a specification UN portable tank conforming to the requirements specified in § 172.102(c)(7) portable tank code T50 that has been designed, constructed, certified, and stamped in accordance with the latest edition of Section VIII, Division 1 of the ASME Code with a design margin of 3.5.1. The portable tank is used for the transportation in commerce of certain Division 2.3, Class 3, Division 6.1, and Class 8 materials. (modes 1, 3)
16574-N | Veolia ES Technical Solutions, L.L.C., Lombard, IL | 49 CFR 173.21(b), 173.51, 173.54(a), 173.56(b) | To authorize the one-time transportation in commerce of certain unapproved fireworks from the Aberdeen Proving Ground military facility located in Aberdeen, MD to Veolia ES Technical Solutions, L.L.C.'s disposal facility located in Sauget, IL for final disposal. (mode 1)
16578-N | Schlumberger Technology Corporation, Sugar Land, TX | 49 CFR 173.301(f), 173.302a, 173.304a | To authorize the manufacture, mark, sale and use of non-DOT specification cylinders without pressure relief devices for the transportation in commerce of certain hazardous materials. (modes 1, 2, 4)
Emergency Special Permit Granted
| Kalitta Air, LLC, Ypsilanti, MI | 49 CFR 172.101 Table Column (9B), 172.204(c)(3), 173.27(b)(2),(3), and 175.30(a)(1) | To modify the special permit to correct the net weight of the explosives permitted to be transported. (mode 4)
| Kalitta Air, LLC, Ypsilanti, MI | 49 CFR 172.101 Table Column (9B), 172.204(c)(3), 173.27(b)(2),(3), and 175.30(a)(1) | To authorize the one-time transportation in commerce of certain explosives that are forbidden for transportation by cargo only aircraft. (mode 4)
New Special Permit Withdrawn
16249-N | Optimized Energy Solutions, LLC, Durango, CO | 49 CFR 172.101 Table, Column (8C), 173.315 | To authorize the transportation in commerce of ethane, refrigerated liquid in DOT 113C120W tank cars. (mode 2)
Denied
7765-M | Request by Carleton Technologies, Inc. Orchard Park, NY December 16, 2015. To modify the special permit to authorize a competent internal Carleton inspector to perform the required duties outlined in § 178.35(c).

[FR Doc. 2016-05686 Filed 3-15-16; 8:45 am]

BILLING CODE 4909-60-M